DEPARTMENT OF AGRICULTURE

Forest Service

Notice of Proposed New Fee Sites; Federal Lands Recreation Enhancement Act, (Title VIII, Pub. L. 108-447)

AGENCY: Wallowa-Whitman National Forest, USDA Forest Service.

ACTION: Notice of proposed new fee sites.

SUMMARY: The Wallowa-Whitman National Forest is planning to charge fees at eight recreation sites. All sites have recently been reconstructed or amenities are being added to improve services and experiences. Fees are assessed based on the level of amenities and services provided, cost of operation and maintenance, market assessment, and public comment. The fees listed are only proposed and will be determined upon further analysis and public comments. Funds from fees would be used for the continued operation and maintenance of these recreation sites.

Moss Springs Guard Station will be available for overnight rental. A financial analysis is being completed to determine the rental fee but may range between $60 and $80 per night. Rental cabins offer a unique experience and are a widely popular offering on National Forests. Moss Springs Guard Station was restored in the late 1990s to maintain its historic value and provide overnight use by the public. It was taken off the rental system over five years ago; however, renewed interest by the public for rental cabins has increased. Fees would continue to help protect the historic integrity of the Moss Springs Guard Station.

The following campgrounds are currently a fee free site: Two Color, Umapine, Boulder Park, North Fork Catherine Creek Group Site, Spring Creek and Oregon Trail Interpretive Park. These sites provide campsites, fire rings, picnic tables and toilets. New toilets were installed at most of these developed recreation sites within the last five years. The new fee will address sanitation and safety concerns, and improve deteriorating resource conditions and recreation experiences. A financial analysis is being completed to determine fee rates. The proposed fee to help maintain these sites would range between $8 and $15 a campsite and $3 per one additional vehicle per campsite.

The Elkhorn Crest Trailhead would be re-established as a fee site since amenities such as garbage service have been added and interpretive signing is being developed for this site. Recreation Passes such as the Northwest Forest Pass would cover day use fees for this trailhead. Northwest Forest Passes are $5 for a daily pass and $30 for an annual pass.

DATES: The Agency must receive public comments before July 30, 2010. New fees would begin after July 30, 2010 and contingent upon completion of certain improvements. The cabin rental would be available once a final decision is made and is listed with the National Recreation Reservation Service.

ADDRESSES: You may submit comments by any of the following methods:

• Mail: Wallowa-Whitman National Forest, ATTN: Recreation Fee Proposals, P.O. Box 907, Baker City, Oregon 97814.

• Hand Delivery/Courier: Wallowa-Whitman National Forest, ATTN: Recreation Fee Proposals, 1550 Dewey Avenue, Baker City, Oregon 97814.

• E-Mail: dermovick@fs.fed.us.

• Fax: 541-523-1315.

FOR FURTHER INFORMATION CONTACT: Dan Ermovick, Forest Recreation Manager, 541-523-1250. Information about proposed fee changes can also be found on the Wallowa-Whitman National Forest Web site: http://www.fs.fed.us/r6/wallowa-whitman/recreation/index.html

SUPPLEMENTARY INFORMATION: The Federal Recreation Lands Enhancement Act (Title VII, Pub. L. 108-447) directed the Secretary of Agriculture to publish a six month advance notice in the Federal Register whenever new recreation fee areas are established.

Once public involvement is complete, these new fees will be reviewed by a Recreation Resource Advisory Committee prior to a final decision and implementation.

People wanting to rent Moss Springs Guard Station would need to do so through the National Recreation Reservation Service, at http://www.reserveusa.com or by calling 1-877-444-6777 when it becomes available.

Dated: January 8, 2010.
Steven A. Ellis,
Forest Supervisor.

[FR Doc. 2010-889 Filed 1-15-10; 8:45 am]

BILLING CODE 3410-11-P